DEPARTMENT OF COMMERCE

International Trade Administration

Initiation of Antidumping and Countervailing Duty Administrative Reviews

Correction

In notice document 2015-28460, beginning on page 69193 in the issue of Monday, November 9, 2015, make the following correction:

On page 69197, in the table, in eighteenth and nineteenth rows,

“Çayirova Boru Sanayi ve Ticaret A.Ş. and Yücel Boru İthalat-İhracat ve Pazarlama A.Ş.(collectively Yücel)5”

should read

“Çayirova Boru Sanayi ve Ticaret A.Ş. and Yücel Boru İthalat-İhracat ve Pazarlama A.Ş.(collectively Yücel)5”.

[FR Doc. C1-2015-28460 Filed 11-27-15; 8:45 am]

BILLING CODE 1505-01-D